DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following projects: (1) Hatcher Pass Recreational Area Access, Trails, and Transit Facilities Project, Matanuska-Susitna Borough, Hatcher Pass, AK; (2) Bus Rapid Transit Project, Roaring Fork Transportation Authority, Pitkin, Eagle, and Garfield Counties, CO; (3) Second Avenue Subway Project, Metropolitan Transportation Authority, New York, NY; and (4) Sugar House Streetcar Project, Utah Transit Authority, South Salt Lake and Salt Lake City, Salt Lake County, UT. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation projects will be barred unless the claim is filed on or before September 30, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with each project to comply with the National Environmental Policy Act (NEPA) and in other documents in the FTA administrative record for the project. Interested parties may contact either the project sponsor or the relevant FTA Regional Office for more information on these projects. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. For example, this notice does not extend the limitation on claims announced for earlier decisions on the Second Avenue Subway project.

The projects and actions that are the subject of this notice are:

1. Project name and location: Hatcher Pass Recreational Area Access, Trails, and Transit Facilities Project, Hatcher Pass, AK. Project sponsor: Matanuska-Susitna Borough. Project description: The project consists of the development of transportation access and transit-related infrastructure to improve access to the Government Peak Subunit of Hatcher Pass. The proposed actions include the construction of access roads, parking lots, and enclosed transit facilities. Final agency actions: Section 106 finding of no historic properties affected; Section 4(f) determination; and a Record of Decision dated January 2011. Supporting documentation: Final Environmental Impact Statement dated November 2010.

2. Project name and location: Bus Rapid Transit Project, Pitkin, Eagle, and Garfield Counties, CO. Project sponsor: Roaring Fork Transportation Authority. Project description: The project consists of a Bus Rapid Transit project with service along approximately 40 miles of Colorado State Highway 82 from Glenwood Springs to Aspen, CO. The project includes 18 buses, nine stations, and five park and ride lots. Final agency actions: Section 106 finding of no historic properties affected; no use of Section 4(f) properties; project-level air quality conformity; and a Finding of No Significant Impact (FONSI) dated November 2010. Supporting documentation: Environmental Assessment dated August 2010.

3. Project name and location: Second Avenue Subway, New York, NY. Project sponsor: Metropolitan Transportation Authority. Project description: The Second Avenue Subway project is the phased construction of a new 8.5-mile subway line under Second Avenue in Manhattan from 125th Street to Hanover Square in Lower Manhattan. It includes sixteen new stations which will be accessible by persons with disabilities. FTA has agreed to partially fund the first phase of the project which will run between 105th Street and 62nd Street and will connect to the existing F line at 63rd Street, so that Phase 1 can be operated before the other phases are built. Various changes to Phase 1 have been evaluated in a number of technical memorandums. Final agency actions: FTA determination that neither a supplemental environmental impact statement nor a supplemental environmental assessment is necessary. Supporting documentation: Technical Memorandum No. 8 assessing design changes for the 86th Street Station Ancillary Facility #2 dated January 2011.

4. Project name and location: Sugar House Streetcar Project, South Salt Lake and Salt Lake City, Salt Lake County, UT. Project sponsor: Utah Transit Authority. Project description: The project is a 2-mile streetcar line on an existing railroad right-of-way between 1700 South and Interstate 80 in Salt Lake County, UT. The streetcar will connect a commercial center to the existing TRAX light rail system. Final agency actions: Section 4(f) determination; Section 106 finding of no adverse effect; project-level air quality conformity; and a Finding of No Significant Impact (FONSI) signed February 2011. Supporting documentation: Environmental Assessment dated November 2010.

Issued on: April 1, 2011.
Elizabeth S. Riklin,
Deputy Associate Administrator for Planning and Environment, Washington, DC.

[FR Doc. 2011-8225 Filed 4-6-11; 8:45 am]

BILLING CODE 4910-57-P